DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Fishery Capacity Reduction Program Request.

OMB Control Number: 0648-0376.

Form Number(s): None.

Type of Request: Regular submission.

Burden Hours: 27,928.

Number of Respondents: 1,200.

Average Hours Per Response: Implementation plans, 6,634 hours; advance and post referenda and bids, 4 hours; monthly buyer or seller reports, 2 hours; annual buyer or seller reports, 4 hours; buyer/seller reports, 2 hours; and information provided to resolve conflicts in ownership claims, 1 hour.

Needs and Uses: The Sustainable Fisheries Act (SFA) amended the Magnuson-Stevens Fishery Conservation and Management Act (MSA) to provide for voluntary reduction of excess fishing capacity through fishing capacity reduction (buyback) programs. Excess fishing capacity decreases fisheries earnings, complicates fishery management, and imperils fishery conservation. Congress acknowledged this by providing program authority. This extension request for information collection approval involves standard information required to be included in any program request for any fishery.

The statutory objective of a program is “to obtain the maximum sustained reduction in fishing capacity at the least cost and in a minimum period of time.” Buybacks pay fishermen either to (1) surrender their fishing permits or (2) both surrender their permits and either scrap their fishing vessels or restrict vessel title to prevent fishing. The buybacks can involve either a Federal or State fishery. Buybacks can be funded via a long-term loan from the Federal government to the fishery (called industry-funded buybacks), to be repaid by the industry by post-buyback landing fees, or funded from appropriations (non-industry funded) or other non-loan sources of funds. Programs involving industry financed loans are authorized by section 1111 of title XI of the Merchant Marine Act, 1936.

Buybacks can involve as many as seven types of information collection requirements on the public. These are:

(1) Program requests (including development of a harvester proponents' implementation plan),

(2) Invitations to bid,

(3) Referendum material for review and vote,

(4) Buyer reporting and recordkeeping,

(5) Seller reports (if buyers do not collect the fee),

(6) State actions for fisheries subject to State authority, and

(7) Advisement of conflicts in ownership claims.

Affected Public: Business or other for-profit organizations; State, Local or Tribal Government.

Frequency: Monthly, annually, and one-time only.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 12, 2008.
Gwellnar Banks,
Management Analyst, Office of the Chief Information Officer.

[FR Doc. E8-18892 Filed 8-14-08; 8:45 am]

BILLING CODE 3510-22-P